DEPARTMENT OF LABOR

Employment and Training Administration

Proposed Information Collection of the Tax Performance System Handbook ETA 407; Extension Without Change

AGENCY: Employment and Training Administration, Labor.

ACTION: Notice.

SUMMARY: The U.S. Department of Labor, as part of its continuing effort to reduce paperwork and respondent burden, conducts a preclearance consultation program to provide the general public and Federal agencies with an opportunity to comment on proposed and/or continuing collections of information in accordance with the Paperwork Reduction Act of 1995 (PRA95) (44 U.S.C. 3506 (c)(2)(A)). This program helps to ensure that requested data can be provided in the desired format, reporting burden (time and financial resources) is minimized, collection instruments are clearly understood, and the impact of collection requirements on respondents can be properly assessed. Currently, the Employment and Training Administration (ETA) is soliciting comments concerning the proposed extension of the Tax Performance System (TPS). A copy of the proposed information collection request can be obtained by contacting the employee listed below in the contact section of this notice or by accessing: http://www.doleta.gov/OMBCN/OMBControlNumber.cfm.

DATES: Written comments must be submitted to the office listed in the address below on or before March 23, 2012.

ADDRESSES: Send comments to Eve MacDonald, Office of Unemployment Insurance, Employment and Training Administration, U.S. Department of Labor, Room S 4522, 200 Constitution Ave. NW., Washington, DC 20210; (202) 693-3028 (this is not a toll-free number).

SUPPLEMENTARY INFORMATION:

I. Background

Since 1987, states have been required by regulation at 20 CFR part 602 to operate a program to assess their Unemployment Insurance (UI) tax and benefit programs. TPS is designed to assess the major internal UI tax functions by utilizing several methodologies: Computed Measures, which are indicators of timeliness and completeness based on data automatically generated via the existing ETA 581, Contribution Operations Report (Office of Management and Budget (OMB) approval number 1205-0178, expiring 01/31/2012, and currently under review for extension at OMB); and Program Reviews which assess accuracy through a two-fold examination. This examination involves: (a) “Systems Reviews” which examine tax systems for the existence of internal controls; and (b) extraction of small samples of those systems' transactions which are then examined to verify the effectiveness of controls.

II. Desired Focus of Comments

Currently, the Employment and Training Administration is soliciting comments concerning the proposed extension of TPS Handbook 407. Comments are requested to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Actions

It is important that approval of the TPS Handbook 407 be extended because this report is the only vehicle for collection of information on the quality and timeliness of state UI tax operations. If TPS Handbook 407 data were not collected, there would be no basis for determining and measuring state UI tax performance and effectiveness.

Type of Review: Extension without change.

Agency: Employment and Training Administration.

Title: Tax Performance System Handbook 407.

OMB Number: 1205-0332.

Agency Number: ETA Handbook 407.

Recordkeeping: Respondent is expected to maintain data which support the reported data for three years.

Affected Public: State government.

Total Respondents: 52.

Frequency: Annually.

Total Responses: 52.

Average time per response: 1739 hours.

Estimated Total Burden Hours: 90,428.

Total Burden Cost (operating/maintaining): $4,543,637.

Comments submitted in response to this notice will be summarized and/or included in the request for OMB approval of the extension of the information collection request; they will also become a matter of public record.

Dated: January 18, 2012.
Jane Oates,
Assistant Secretary for Employment and Training.

[FR Doc. 2012-1224 Filed 1-20-12; 8:45 am]

BILLING CODE 4510-FW-P